DEPARTMENT OF TRANSPORTATION

Federal Aviation Administration

14 CFR Part 97

[Docket No. 31087; Amdt. No. 3705]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 4, 2016. The compliance date for each SIAP, associated Takeoff Minimums, and ODP is specified in the amendatory provisions.

The incorporation by reference of certain publications listed in the regulations is approved by the Director of the Federal Register as of August 4, 2016.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPs, Takeoff Minimums and/or ODPs. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPs, Takeoff Minimums and/or ODPs as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on July 15, 2016.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 18 AUGUST 2016

Las Cruces, NM, Las Cruces Intl, ILS OR LOC RWY 30, Amdt 3

Las Cruces, NM, Las Cruces Intl, RNAV (GPS) RWY 12, Amdt 2

Las Cruces, NM, Las Cruces Intl, RNAV (GPS) RWY 30, Amdt 2

Las Cruces, NM, Las Cruces Intl, Takeoff Minimums and Obstacle DP, Amdt 2

Fond Du Lac, WI, Fond Du Lac County, RNAV (GPS) RWY 18, Orig-A

Effective 15 SEPTEMBER 2016

Sylacauga, AL. Merkel Field Sylacauga Muni, RNAV (GPS) RWY 9, Amdt 2

Sylacauga, AL. Merkel Field Sylacauga Muni, RNAV (GPS) RWY 27, Amdt 2

Livermore, CA, Livermore Muni, RNAV (GPS) RWY 25R, Amdt 1

San Carlos, CA, San Carlos, RNAV (GPS) Y RWY 30, Orig-A

San Carlos, CA, San Carlos, RNAV (GPS) Z RWY 30, Amdt 1A

San Diego, CA, San Diego Intl, RNAV (GPS) RWY 27, Amdt 3E

Sterling, CO, Sterling Muni, NDB RWY 33, Amdt 3B

Sterling, CO, Sterling Muni, RNAV (GPS) RWY 15, Orig-B

Orlando, FL. Executive, ILS OR LOC RWY 7, Amdt 24

Orlando, FL. Executive, ILS OR LOC RWY 25, Amdt 1

Orlando, FL. Executive, RNAV (GPS) RWY 7, Amdt 2

Orlando, FL. Executive, RNAV (GPS) RWY 25, Amdt 3

Albany, GA, Southwest Georgia Rgnl, ILS OR LOC RWY 4, Amdt 11A

Albany, GA, Southwest Georgia Rgnl, LOC BC RWY 22, Amdt 8A

Albany, GA, Southwest Georgia Rgnl, VOR OR TACAN RWY 16, Amdt 27A

Athens, GA, Athens/Ben Epps, ILS OR LOC/DME RWY 27, Amdt 2B

Athens, GA, Athens/Ben Epps, VOR RWY 2, Amdt 11C

Athens, GA, Athens/Ben Epps, VOR RWY 27, Amdt 13B

Atlanta, GA, Covington Muni, RNAV (GPS) RWY 28, Amdt 1C

Elberton, GA, Elbert County-Patz Field, VOR/DME RWY 11, Amdt 4B

Hampton, GA, Henry County Airport, RNAV (GPS) RWY 6, Amdt 2

Hampton, GA, Henry County Airport, RNAV (GPS) RWY 24, Amdt 2

Hampton, GA, Henry County Airport, Takeoff Minimums and Obstacle DP, Amdt 2

Jefferson, GA, Jackson County, VOR/DME RWY 35, Amdt 3A

Madison, GA, Madison Muni, VOR/DME-A, Amdt 8A

Monroe, GA, Monroe-Walton County, NDB-A, Amdt 1B

Washington, GA, Washington-Wilkes County, VOR/DME RWY 13, Amdt 3A

Winder, GA, Barrow County, ILS OR LOC RWY 31, Orig-D

Winder, GA, Barrow County, NDB RWY 31, Amdt 9C

Winder, GA, Barrow County, RNAV (GPS) RWY 23, Orig-B

Winder, GA, Barrow County, RNAV (GPS) RWY 31, Amdt 1C

Osceola, IA, Osceola Muni, RNAV (GPS) RWY 36, Orig-B

Kokomo, IN, Kokomo Muni, VOR RWY 23, Amdt 20, CANCELED

Olathe, KS, New Century Aircenter, RNAV (GPS) RWY 4, Orig

Olathe, KS, New Century Aircenter, RNAV (GPS) RWY 22, Orig

Tallulah, LA, Vicksburg Tallulah Rgnl, ILS OR LOC RWY 36, Orig

Tallulah, LA, Vicksburg Tallulah Rgnl, LOC RWY 36, Amdt 4A, CANCELED

Tallulah, LA, Vicksburg Tallulah Rgnl, RNAV (GPS) RWY 18, Amdt 3

Tallulah, LA, Vicksburg Tallulah Rgnl, RNAV (GPS) RWY 36, Amdt 4

Helena, MT, Helena Rgnl, NDB-D, Amdt 3B, CANCELED

Helena, MT, Helena Rgnl, RNAV (GPS) RWY 23, Orig-A, CANCELED

Sidney, MT, Sidney-Richland Muni, NDB RWY 1, Amdt 3, CANCELED

Aurora, NE, Aurora Muni-AL Potter Field, RNAV (GPS) RWY 16, Amdt 1A

Kimball, NE, Kimball Muni/Robert E Arraj Field, RNAV (GPS) RWY 28, Amdt 1B

Ogallala, NE, Searle Field, VOR/DME RWY 26, Amdt 1C

Oshkosh, NE, Garden County, NDB RWY 12, Amdt 1C

Oshkosh, NE, Garden County, RNAV (GPS) RWY 12, Amdt 2A

Sidney, NE, Sidney Muni/Lloyd W Carr Field, VOR/DME RWY 13, Amdt 5B

Sidney, NE, Sidney Muni/Lloyd W Carr Field, VOR/DME RWY 31, Amdt 5B

Whitefield, NH, Mount Washington Rgnl, LOC RWY 10, Amdt 7A, CANCELED

Newark, OH, Newark-Heath, RNAV (GPS) RWY 9, Orig

Newark, OH, Newark-Heath, RNAV (GPS) RWY 27, Amdt 1

Lancaster, PA, Lancaster, VOR/DME RWY 26, Amdt 10B

Mount Joy/Marietta, PA, Donegal Springs Airpark, RNAV (GPS) RWY 28, Orig-B

Mount Joy/Marietta, PA, Donegal Springs Airpark, VOR RWY 28, Amdt 1A

Philadelphia, PA, Philadelphia Intl, RNAV (GPS) RWY 35, Amdt 4

Pittsburgh, PA, Allegheny County, VOR-A, Orig, CANCELED

Reading, PA, Reading Rgnl/Carl A Spaatz Field, ILS OR LOC RWY 13, Amdt 1C

Reading, PA, Reading Rgnl/Carl A Spaatz Field, ILS OR LOC RWY 36, Amdt 30C

Anderson, SC, Anderson Rgnl, ILS OR LOC RWY 5, Amdt 1A

Houston, TX, Ellington, ILS OR LOC RWY 22, Amdt 3G

Houston, TX, Ellington, ILS OR LOC RWY 35L, Amdt 6B

La Porte, TX, La Porte Muni, VOR-A, Orig-A

Terrell, TX, Terrell Muni, NDB RWY 17, Amdt 4, CANCELED

Bridgewater, VA, Bridgewater Air Park, RNAV (GPS) RWY 15, Amdt 1

Bridgewater, VA, Bridgewater Air Park, RNAV (GPS) RWY 33, Amdt 1

Charlotte Amalie, VI, Cyril E King, ILS OR LOC RWY 10, Amdt 1B

Afton, WY, Afton Muni, AFTON THREE Graphic DP

RESCINDED: On July 11, 2016 (81 FR 44765), the FAA published an Amendment in Docket No. 31082, Amdt No. 3701 to Part 97 of the Federal Aviation Regulations. The following entry, effective July 21, 2016, is hereby rescinded in its entirety:

Hailey, ID, Friedman Memorial, RNAV (GPS) X RWY 31, Amdt 1, CANCELED

[FR Doc. 2016-18444 Filed 8-3-16; 8:45 am]

BILLING CODE 4910-13-P